DEPARTMENT OF LABOR

Employment and Training Administration

[TA-W-37,998]

Eaton Corporation, Vickers Industrial and Mobile Division, Omaha Nebraska, Notice of Revised Determination on Reconsideration

By letter of December 12, 2000, the Paper, Allied-Industrial, and Chemical & Energy Workers International Union (PACE) Local 5-0171, requested administrative reconsideration regarding the Department's Negative Determination Regarding Eligibility to Apply for Worker Adjustment Assistance, applicable to the workers of the subject firm.

The initial investigation resulted in a negative determination issued on November 20, 2000, based on the finding that imports of hydraulic vane and piston pumps, motors and repair parts did not contribute importantly to worker separations at the Omaha plant. The company transferred some of the Omaha production abroad but imports had not occurred. The workers are not separately identifiable by product line. The denial notice was published in the Federal Register on December 6, 2000 (65 FR 76289).

To support the request for reconsideration, PACE provided evidence to show that imports of vane pump parts have begun. The Department contacted a company official which confirmed that imports had arrived, and the subject firm will continue to rely on imports.

Conclusion

After careful review of the additional facts obtained on reconsideration, I conclude that increased imports of articles like or directly competitive with those produced at Eaton Corporation, Vickers Industrial and Mobile Division, Omaha, Nebraska, contributed importantly to the declines in sales or production and to the total or partial separation of workers at the subject firm. In accordance with the provisions of the Act, I make the following certification:

All workers of Eaton Corporation, Vickers Industrial and Mobile Division, Omaha, Nebraska, who became totally or partially separated from employment on or after August 7, 1999 through two years from the date of this certification, are eligible to apply for adjustment assistance under Section 223 of the Trade Act of 1974.

Signed in Washington, DC, this 9th day of January, 2001.
Linda G. Poole,
Certifying Officer, Division of Trade Adjustment Assistance.

[FR Doc. 01-1900 Filed 1-22-01; 8:45 am]

BILLING CODE 4510-30-M